ENVIRONMENTAL PROTECTION AGENCY

40 CFR Part 52

[CA 031-0174b; FRL-6580-4]

Approval and Promulgation of Implementation Plans; California State Implementation Plan Revision, Lake County Air Quality Management District and San Joaquin Valley Unified Air Pollution Control District

AGENCY: Environmental Protection Agency (EPA).

ACTION: Proposed rule.

SUMMARY: EPA is approving revisions to the California State Implementation Plan. The revisions concern rules from the following: Lake County Air Quality Management District (LCAQMD) and San Joaquin Valley Unified Air Pollution Control District (SJVUAPCD). The rules control particulate matter (PM) emissions from open burning or processes identified by a weight rate throughput.

The intended effect of this action is to regulate emissions of PM in accordance with the requirements of the Clean Air Act, as amended in 1990 (CAA or the Act). In the Final Rules section of this Federal Register, the EPA is approving the state's SIP revision as a direct final rule without prior proposal because the Agency views this as a noncontroversial revision and anticipates no adverse comments. A detailed rationale for this approval is set forth in the direct final rule. If no relevant adverse comments are received, no further activity is contemplated in relation to this rule. If EPA receives relevant adverse comments, the direct final rule will not take effect and all public comments received will be addressed in a subsequent final rule based on this proposed rule. EPA will not institute a second comment period on this rule. Any parties interested in commenting on this rule should do so at this time.

DATES: Comments must be received in writing by May 22, 2000.

ADDRESSES: Comments should be addressed in writing to: Andrew Steckel, Rulemaking Office (AIR-4), Air Division, U.S. Environmental Protection Agency, Region IX, 75 Hawthorne Street, San Francisco, CA 94105.

Copies of the rule revisions and EPA's evaluation report of each rule are available for public inspection at EPA's Region IX office during normal business hours. Copies of the submitted rule revisions are also available for inspection at the following locations:

Rulemaking Office (AIR-4), Air Division, U.S. Environmental Protection Agency, Region IX, 75 Hawthorne Street, San Francisco, CA 94105.

Environmental Protection Agency, Air Docket (6102), Ariel Rios Building, 1200 Pennsylvania Avenue, NW, Washington, D.C. 20460.

California Air Resources Board, Stationary Source Division, Rule Evaluation Section, 2020 “L” Street, Sacramento, CA 95812.

Lake County Air Quality Management District, 883 Lakeport Boulevard, Lakeport, CA 95453.

San Joaquin Valley Unified Air Pollution Control District, 1990 East Gettysburg Street, Fresno, CA 93726.

FOR FURTHER INFORMATION CONTACT: Al Petersen, Rulemaking Office, (AIR-4), Air Division, U.S. Environmental Protection Agency, Region IX, 75 Hawthorne Street, San Francisco, CA 94105, Telephone: (415) 744-1135.

SUPPLEMENTARY INFORMATION: This document concerns the following rules: LCAQMD Section (Rule) 226.5, Fire Season—Burn Ban; LCAQMD Section (Rule) 431.5, [Non-Agricultural Burning]; LCAQMD Section (Rule) 433, [Exemption—Residential]; Lake County Section (Rule) 1150, Wildland Vegetation Management Burning; and SJVUAPCD Rule 4202, Particulate Matter—Emission Rate. These rules were adopted on September 13, 1988, June 13, 1989, July 15, 1997, December 6, 1988, and December 17, 1992, respectively, and were submitted by the California Air Resources Board (CARB) to EPA on July 23, 1999, March 26, 1990, March 10, 1998, February 7, 1989, and September 28, 1994, respectively. For further information, see the direct final action that is located in the Rules section of this Federal Register.

Authority: 42 U.S.C. 7401 et seq.

Dated: March 30, 2000.
Laura Yoshii,
Acting Regional Administrator, Region IX.

[FR Doc. 00-9651 Filed 4-20-00; 8:45 am]

BILLING CODE 6560-50-P